DEPARTMENT OF COMMERCE

National Institute of Standards and Technology

Manufacturing Extension Partnership Advisory Board

AGENCY: National Institute of Standards and Technology, Commerce.

ACTION: Notice of Open Meeting.

SUMMARY: The National Institute of Standards and Technology (NIST) announces that the Manufacturing Extension Partnership (MEP) Advisory Board will hold an open meeting on Tuesday, May 19, 2015, from 8:30 a.m. to 5:00 p.m. Mountain Time.

DATES: The meeting will be held Tuesday, May 19, 2015, from 8:30 a.m. to 5:00 p.m. Mountain Time.

ADDRESSES: The meeting will be held at the Embassy Suites Phoenix-Scottsdale, 4415 E. Paradise Village Parkway South, Phoenix, AZ 85032. Please note admittance instructions in the SUPPLEMENTARY INFORMATION section below.

FOR FURTHER INFORMATION CONTACT: Kari Reidy, Manufacturing Extension Partnership, National Institute of Standards and Technology, 100 Bureau Drive, Mail Stop 4800, Gaithersburg, Maryland 20899-4800, telephone number (301) 975-4919, email kari.reidy@nist.gov.

SUPPLEMENTARY INFORMATION: The MEP Advisory Board (Board) is authorized under section 3003(d) of the America COMPETES Act (Pub. L. 110-69); codified at 15 U.S.C. 278k(e), as amended, in accordance with the provisions of the Federal Advisory Committee Act, as amended, 5 U.S.C. App. The Board is composed of 10 members, appointed by the Director of NIST. Hollings MEP is a unique program, consisting of centers across the United States and Puerto Rico with partnerships at the state, federal, and local levels. The Board provides a forum for input and guidance from Hollings MEP program stakeholders in the formulation and implementation of tools and services focused on supporting and growing the U.S. manufacturing industry, provides advice on MEP programs, plans, and policies, assesses the soundness of MEP plans and strategies, and assesses current performance against MEP program plans.

Background information on the Board is available at http://www.nist.gov/mep/about/advisory-board.cfm.

Pursuant to the Federal Advisory Committee Act, as amended, 5 U.S.C. App., notice is hereby given that the MEP Advisory Board will hold an open meeting on Tuesday, May 19, 2015, from 8:30 a.m. to 5:00 p.m. Mountain Time. This meeting will focus on updates from the Advisory Board Sub-committees on (1) Technology Acceleration and (2) Board Governance. In addition, the board will engage in a discussion about MEP workforce activities. The final agenda will be posted on the MEP Advisory Board Web site at http://www.nist.gov/mep/about/advisory-board.cfm. This meeting is being held in conjunction with the MEP Update meeting that will be held May 20-21, 2015, also at the Embassy Suites Phoenix-Scottsdale in Phoenix, Arizona.

Admittance Instructions: Anyone wishing to attend the MEP Advisory Board meeting should submit their name, email address and phone number to Kari Reidy (kari.reidy@nist.gov or 301-975-4919) no later than Tuesday, May 12, 2015, 5:00 p.m. Eastern Time.

Individuals and representatives of organizations who would like to offer comments and suggestions related to the MEP Advisory Board's business are invited to request a place on the agenda. Approximately 15 minutes will be reserved for public comments at the beginning of the meeting. Speaking times will be assigned on a first-come, first-served basis. The amount of time per speaker will be determined by the number of requests received but is likely to be no more than three to five minutes each. The exact time for public comments will be included in the final agenda that will be posted on the MEP Advisory Board Web site as http://www.nist.gov/mep/about/advisory-board.cfm. Questions from the public will not be considered during this period. Speakers who wish to expand upon their oral statements, those who had wished to speak but could not be accommodated on the agenda, and those who were unable to attend in person are invited to submit written statements to the MEP Advisory Board, National Institute of Standards and Technology, 100 Bureau Drive, Mail Stop 4800, Gaithersburg, Maryland 20899-4800, or via fax at (301) 963-6556, or electronically by email to kari.reidy@nist.gov.

Kevin Kimball,
Chief of Staff.

[FR Doc. 2015-09786 Filed 4-27-15; 8:45 am]

BILLING CODE 3510-13-P